DEPARTMENT OF TRANSPORTATION

Federal Aviation Administration

14 CFR Part 71

[Docket No. FAA-2003-15887 Airspace Docket No. 03-AWP-11]

Establishment of Class D Airspace; Ramona, CA

AGENCY: Federal Aviation Administration (FAA), DOT.

ACTION: Final rule; correction.

SUMMARY: This action establishes a Class D surface area at Ramona, CA, within a 4-mile radius of the airport from the surface up to, but not including, 3,800 feet mean sea level (MSL). The construction of a non-federal contact tower at Ramona airport has made this action necessary. This action also corrects the coordinates for Ramona airport.

EFFECTIVE DATE: 0901 UTC, December 25, 2003.

FOR FURTHER INFORMATION CONTACT: Debra Trindle, Airspace Specialist, Airspace Branch, Air Traffic Division, Federal Aviation Administration, 15000 Aviation Boulevard, Lawndale, California; telephone (310) 725-6613.

SUPPLEMENTARY INFORMATION:

History

On Tuesday, August 26, 2003, the FAA proposed to amend 14 CFR part 71 to establish Class D airspace at Ramona, CA. (68 FR 51205). The proposal was to establish a Class D surface area within a 4-mile radius of the airport from the surface up to, but not including, 3,800 feet mean sea level (MSL). This action was due to the construction of a non-federal contract tower and to accommodate aircraft executing instrument flight procedures into and out of Ramona Airport.

Interested parties were invited to participate in this rulemaking proceeding by submitting written comments on the proposal to the FAA. No comments objecting to the proposal were received. Class D airspace designations are published in paragraph 5000 of FAA Order 7400.9L dated September 2, 2003, and effective September 16, 2003, which is incorporated by reference in 14 CFR 71.1 The Class D airspace designation listed in this document will be published subsequently in the Order.

The Rule

This amendment to 14 CFR part 71 establishes Class D airspace at Ramona, CA, to accommodate aircraft executing instrument flight procedures into and out of Ramona Airport. The area will be depicted on appropriate aeronautical charts. This action also corrects the coordinates for Ramona published in the Notice of Proposed Rulemaking (68 FR 51205).

The FAA has determined that this regulation only involves an established body of technical regulations for which frequent and routine amendments are necessary to keep them operationally current. Therefore, this regulation—(1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS.

1. The authority citation for part 71 continues to read as follows:

Authority: 49 U.S.C. 106(g), 40103, 40113, 40120; E.O. 10854, 24 FR 95665, 3 CFR 1959-1963 Comp., p. 389.

§ 71.1 [Amended]

2. The incorporation by reference in 14 CFR 71.1 of the Federal Aviation Administration Order 7400.9K, Airspace Designations and Reporting Points, dated September 2, 2003, and effective September 16, 2003, is amended as follows:

Paragraph 5000 Class D airspace.

* * * * *

AWP CA D Ramona, CA [New]

Ramona, CA

(Lat. 33°02′21″ N., long. 116°54′55″ W.)

That airspace extending upward from the surface to but not including 3,800 feet MSL within a 4-mile radius of the Ramona Airport. This Class D airspace area is effective during the specific days and times established in advance by a Notice to Airmen. The effective days and times will thereafter be continuously published in the Airport/Facility Directory.

* * * * *

Issued in Los Angeles, California, on October 8, 2003.
Leonard A. Mobley,
Acting Manager, Air Traffic Division, Western-Pacific Region.

[FR Doc. 03-27175 Filed 10-27-03; 8:45 am]

BILLING CODE 4910-13-M